DEPARTMENT OF THE INTERIOR

Fish and Wildlife Service

Notice of Availability of Draft Comprehensive Conservation Plan for Kirwin National Wildlife Refuge, Kirwin, KS

AGENCY: Fish and Wildlife Service, Interior.

ACTION: Notice of availability.

SUMMARY: The U.S. Fish and Wildlife Service (Service) announces that a Draft Comprehensive Conservation Plan (CCP) and Environmental Assessment (EA) for Kirwin National Wildlife Refuge (NWR) is available. This CCP, prepared pursuant to the National Wildlife Refuge System Improvement Act of 1997 (Improvement Act) and the National Environmental Policy Act of 1969, describes how the Service intends to manage this Refuge for the next 15 years.

DATES: Written comments must be received at the postal or electronic address listed below on or before April 24, 2006.

ADDRESSES: Please provide written comments to Toni Griffin, Planning Team Leader, Division of Refuge Planning, Branch of Comprehensive Conservation Planning, Mountain-Prairie Region, P.O. Box 25486, Denver Federal Center, Denver, Colorado 80225-0486, or electronically to toni_griffin@fws.gov. A copy of the Draft CCP/EA may be obtained by writing to the U.S. Fish and Wildlife Service, 134 Union Blvd., Suite 300, Lakewood, Colorado 80228-1807; or download from http://mountain-prairie.fws.gov/planning.

FOR FURTHER INFORMATION CONTACT: Craig Mowry, Refuge Manager, U.S. Fish and Wildlife Service, Kirwin National Wildlife Refuge, 702 East Xavier Road, Kirwin, Kansas 67644; telephone: 785-543-6673; fax: 785-543-5464; or e-mail: craig_mowry@fws.gov.

SUPPLEMENTARY INFORMATION: Consisting of 10,778 acres, Kirwin NWR was established in 1954 as an overlay Refuge on a U.S. Bureau of Reclamation (Reclamation) irrigation and flood control reservoir. Reclamation owns the land and controls reservoir water levels. The Service staff manage all other activities on the land and water. The purpose of the Refuge is for the “* * * conservation, maintenance, and management of wildlife, resources thereof, and its habitat thereon * * *” 16 U.S.C. 715d (Fish and Wildlife Coordination Act), with an emphasis on migratory birds.

This Draft CCP/EA identifies and evaluates two alternatives for managing Kirwin NWR for the next 15 years. Alternative A, the No Action Alternative, proposes continuation of current management of the Refuge. The Refuge will continue to be managed in accordance with the current Memorandum of Agreement (MOA) between Reclamation and the Service; the Cooperative Agreement with the Kansas Department of Wildlife and Parks (KDWP); and the Kirwin Comprehensive Management Plan (CMP), completed in 1996. Alternative B (Proposed Action) emphasizes wildlife, habitat, and wildlife-dependent public use. This alternative fully strives to implement the Improvement Act, which directs that each refuge shall be managed to fulfill both the mission of the National Wildlife Refuge System and the individual purpose of the refuge. Under this alternative, management emphasis will be placed on wildlife and habitat management for migratory birds and species of conservation concern. Wildlife-dependent recreation uses (i.e., hunting, fishing, wildlife observation, photography, interpretation, and environmental education) will be promoted and emphasized. Non-wildlife-dependent uses such as water skiing, jet skiing, personal watercrafts, camping, swimming, horseback riding, campfires, volleyball, basketball, power/speed boating, and fishing tournaments would be discontinued.

The Proposed Action was selected because it best meets the purpose and goals of Kirwin NWR, as well as the mission of the National Wildlife Refuge System. The Proposed Action will improve Refuge habitat to benefit migrating waterfowl, neotropical migrants, shore birds, and federally listed species. Habitat improvements will enhance the quality of wildlife-dependent public use programs by attracting more wildlife to the area. Additional wildlife-dependent public use programs will be added where feasible. Environmental education and partnerships will result in greater support of Kirwin NWR and the National Wildlife Refuge System. Cultural and historical resources will be protected.

Dated: August 12, 2006.
Sharon R. Rose,
Regional Director, Region 6, Denver, CO.

Editorial note: This document was received at the Office of the Federal Register March 21, 2006.

[FR Doc. E6-4265 Filed 3-23-06; 8:45 am]

BILLING CODE 4310-55-P